DEPARTMENT OF EDUCATION

34 CFR Chapter II

[DOCKET ID ED-2021-OESE-0037]

Proposed Waiver and Extension of the Project Periods for the Equity Assistance Centers Grant Program

AGENCY: Office of Elementary and Secondary Education (OESE), Department of Education.

ACTION: Proposed waiver and extension of project periods.

SUMMARY: The Secretary proposes to waive the requirements in the Education Department General Administrative Regulations that generally prohibit project periods exceeding five years and project period extensions involving the obligation of additional Federal funds. The proposed waiver and extension would enable four projects under Assistance Listing Number (ALN) 84.004D to receive funding for an additional period, not to exceed September 30, 2022.

DATES: We must receive your comments on or before April 26, 2021.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ.”

• Postal Mail, Commercial Delivery, or Hand Delivery: If you mail or deliver your comments, address them to Ed Vitelli, U.S. Department of Education, 400 Maryland Avenue SW, Room 3E106, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: Ed Vitelli, U.S. Department of Education, 400 Maryland Avenue SW, Room 3E106, Washington, DC 20202. Telephone: 202-453-6203. Email: Edward.Vitelli@ed.gov.

If you use a telecommunications device for the deaf (TDD) or a text telephone (TTY), call the Federal Relay Service (FRS), toll free, at 1-800-877-8339.

SUPPLEMENTARY INFORMATION: Invitation to Comment: We invite you to submit comments regarding this proposed waiver and extension. To ensure that your comments have maximum effect in developing the final waiver and extension, we urge you to identify clearly the specific grantee or grantees (listed in the table under the Background section) that each comment addresses.

We invite you to assist us in complying with the specific requirements of Executive Orders 12866 and 13563 and their overall requirement of reducing regulatory burden that might result from these proposed waivers and extensions. Please let us know of any further ways we could reduce potential costs or increase potential benefits while preserving the effective and efficient administration of the program.

During and after the comment period, you may inspect all public comments about this proposed waiver and extension of the project period by accessing Regulations.gov. Due to the current COVID-19 public health emergency, the Department buildings are not open to the public. However, upon reopening, you may also inspect the comments in person at 400 Maryland Avenue SW, Room 3E106, Washington, DC, between the hours of 8:30 a.m. and 4:00 p.m., Eastern Time, Monday through Friday of each week except Federal holidays.

Assistance to Individuals with Disabilities in Reviewing the Rulemaking Record: On request, we will provide an appropriate accommodation or auxiliary aid to an individual with a disability who needs assistance to review the comments or other documents in the public rulemaking record for this proposed waiver and extension. If you want to schedule an appointment for this type of aid, please contact the person listed under FOR FURTHER INFORMATION CONTACT.

Background

On July 18, 2016, the Department of Education (Department) published in the Federal Register (81 FR 46820) a notice inviting applications for four projects for fiscal year (FY) 2016 under the Equity Assistance Centers (EAC) program, authorized under title IV of the Civil Rights Act of 1964, 42 U.S.C. 2000c-2000c-2, 2000c-5.

The purpose of the EAC projects is to provide technical assistance (including training) at the request of school boards and other responsible governmental agencies in the preparation, adoption, and implementation of plans for the desegregation of public schools, and in the development of effective methods of coping with special educational problems occasioned by desegregation. Desegregation assistance, per 34 CFR 270.4, may include, among other activities: (1) Dissemination of information regarding effective methods of coping with special educational problems occasioned by desegregation; (2) assistance and advice in coping with these problems; and (3) training designed to improve the ability of teachers, supervisors, counselors, parents, community members, community organizations, and other elementary or secondary school personnel to deal effectively with special educational problems occasioned by desegregation. All four projects provide technical assistance (including training) in all four of the desegregation assistance areas: race, sex, national origin, and religion. A table listing the FY 2016 EAC projects follows.

FY 2016 awards under ALN 84.004D | Project information
S004D160012 | Mid-Atlantic Equity Consortium, Bethesda, MD. Project: Center for Education Equity.
S004D160005 | Intercultural Development Research Association, San Antonio, TX. Project: IDRA Equity Assistance Center South.
S004D160011 | Indiana University, Indianapolis, IN. Project: Midwest and Plains Equity Assistance Center.
S004D160004 | Metropolitan State University of Denver, Denver, CO. Project: Western Educational Equity Assistance Center (WEEAC).

The EACs' project periods started on October 1, 2016, and will end on September 30, 2021.

Waivers and Extensions

The Department proposes to extend the four EAC projects to ensure the continuity of services provided by the projects to vulnerable populations, schools, and school districts across the country as the effects of the COVID-19 pandemic unfold, and as learning recovery and school reentry efforts intensify over the course of the current and subsequent school years.

The Department also proposes to extend the four EAC projects to ensure that the next EAC grant competition is, to the extent statutorily permitted, aligned with the Biden Administration's policy directives, including, for example, the Executive orders and memorandum included in the table below.

Title of policy directive | Date signed by President Biden
Executive Order 13985: Advancing Racial Equity and Support for Underserved Communities Through the Federal Government | January 20, 2021.
Executive Order 13988: Preventing and Combating Discrimination on the Basis of Gender Identity or Sexual Orientation | January 20, 2021.
Memorandum: Condemning and Combating Racism, Xenophobia, and Intolerance Against Asian Americans and Pacific Islanders in the United States | January 26, 2021.
Executive Order 14012: Restoring Faith in Our Legal Immigration Systems and Strengthening Integration and Inclusion Efforts for New Americans | February 2, 2021.

These policy directives instruct the Federal Government to pursue a comprehensive approach to advancing equity for all, to prevent and combat discrimination on the basis of gender identity or sexual orientation, to ensure that laws and policies encourage full participation by immigrants, including refugees, in our civic life, to ensure that the Federal Government eliminates sources of fear and other barriers that prevent immigrants from accessing government services available to them, and to combat xenophobia and intolerance against Asian Americans and Pacific Islanders.

For these reasons, the Department believes it is in the best interest of the public to extend the current EAC project periods for one year. Correspondingly, the Secretary proposes to waive the requirements in 34 CFR 75.250, which prohibit project periods exceeding five years, as well as the requirements in 34 CFR 75.261(a) and (c)(2), which permit the extension of a project period only if the extension does not involve the obligation of additional Federal funds. The waiver will permit the Department to issue a FY 2021 continuation award to each of the four currently funded EAC projects.

Any activities carried out under these continuation awards must be consistent with the scope and objectives of the grantees' applications as approved in the FY 2016 competition. The requirements for continuation awards are set forth in 34 CFR 75.253.

Regulatory Flexibility Act Certification

The Secretary certifies that the proposed waiver and extension of the project period would not have a significant economic impact on a substantial number of small entities. The only entities that would be affected by the proposed waiver and extension of the project period are the current grantees.

The Secretary certifies that the proposed waiver and extension would not have a significant economic impact on these entities, because the extension of an existing project period imposes minimal compliance costs, and the activities required to support the additional year of funding would not impose additional regulatory burdens or require unnecessary Federal supervision.

Paperwork Reduction Act of 1995

This notice of proposed waiver and extension of the project period does not contain any information collection requirements.

Intergovernmental Review

This program is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Ruth Ryder,
Deputy Assistant Secretary for Policy and Programs, Office of Elementary and Secondary Education.

[FR Doc. 2021-06117 Filed 3-24-21; 8:45 am]

BILLING CODE 4000-01-P